FEDERAL COMMUNICATIONS COMMISSION

47 CFR Part 73

[DA 06-793; MB Docket No. 06-77; RM-11324]

Radio Broadcasting Services; Belle Meade, Goodlettsville, Hendersonville, TN, Hodgenville, Horse Cave, Lebanon, Lebanon Junction, KY, Manchester and Millersville, TN, New Haven and Springfield, KY

AGENCY: Federal Communications Commission.

ACTION: Proposed rule.

SUMMARY: This document requests comment on an Amended Proposal filed jointly on behalf of Newberry Broadcasting, Inc., Elizabethtown CBC, Inc., CBC of Marion County, Inc., Washington County CBC, Inc., and Cumulus Licensing LLC. This document proposes the substitution of Channel 294C3 for Channel 294A at Belle Meade, Tennessee, reallotment of Channel 294C3 to Millersville, Tennessee, Station WNFN license to specify operation on Channel 294C3 at Millersville; the substitution of Channel 293A for Channel 294A at Horse Cave, Kentucky, and modification of the Station WHHT license to specify operation on Channel 293A; the substitution of Channel 297A for Channel 292A at Hodgenville, Kentucky, and modification of the Station WKMO license to specify operation on Channel 297A; the substitution of Channel 257A for Channel 297A at Lebanon Junction, Kentucky, and modification of the Station WTHX license to specify operation on Channel 257A; the reallotment of Channel 246C2 from Goodlettsville to Belle Meade, Tennessee, and modification of the Station WRQQ license to specify Belle Meade as the community of license; the reallotment of Channel 221A from Hendersonville to Goodlettsville, Tennessee, and modification of the Station WQQK license to specify Goodlettsville as the community of license; the substitution of Channel 259C0 for Channel 259C at Manchester, Tennessee, reallotment of Channel 259C0 to Hendersonville, and modification of the Station WWTN license to specify operation on Channel 259C0 at Hendersonville; the reallotment of Channel 274A from Springfield, Kentucky, to New Haven, Kentucky, and modification of the Station WAKY-FM license to specify New Haven as the community of license; the substitution of Channel 265A for Channel 265C3 at Lebanon, Kentucky, reallotment of Channel 265A to Springfield, Kentucky, and modification of the Station WLSK license to specify operation on Channel 265A at Springfield. The coordinates for the Channel 294C3 allotment at Millersville, Tennessee, would be 36-26-24 and 86-37-39; the coordinates for Channel 293A allotment at Horse Cave, Kentucky, would be 37-13-57 and 85-52-06; the coordinates for the Channel 297A allotment at Hodgenville, Kentucky, would be 37-40-34 and 85-40-57; the coordinates for the Channel 257A allotment at Lebanon Junction, Kentucky, would be 37-44-37 and 85-38-52; the coordinates for the Channel 246C2 allotment at Belle Meade, Tennessee, would be 36-17-50 and 86-45-11; the coordinates for the Channel 221A allotment at Goodlettsville, Tennessee, would be 36-17-50 and 86-45-11; the coordinates for the Channel 259C0 allotment at Hendersonville, Tennessee, would be 35-49-03 and 86-31-24; the coordinates for the Channel 274 allotment at New Haven, Kentucky, would be 37-46-07 and 85-35-57; the coordinates for the Channel 265A allotment at Springfield, Kentucky, would be 37-38-50 and 85-11-50.

DATES: Comments must be filed on or before May 22, 2006, and reply comments on or before June 7, 2006.

ADDRESSES: Secretary, Federal Communications Commission, Washington, DC 20554. In addition to filing comments with the FCC, interested parties should serve the petitioner's counsel, as follows: Mark N. Lipp, c/o Vinson & Elkins 1455 Pennsylvania Ave., NW., Suite 600, Washington, DC 20004. John F. Garziglia, c/o Womble, Carlyle, Sandridge & Rice, 1401 Eye Street, NW., Washington, DC 20006.

FOR FURTHER INFORMATION CONTACT: Robert Hayne, Media Bureau. (202) 418-2177.

SUPPLEMENTARY INFORMATION: This is a synopsis of the Commission's Notice of Proposed Rule Making in MB Docket No. 06-77; adopted April 5, 2006, and released April 7, 2006. The full text of this Commission action is available for inspection and copying during normal business hours in the FCC Reference Information Center at Portals II, CY-A257, 445 12th Street, SW., Washington, DC. The complete text of this action may also be purchased from the Commission's copy contractor, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio Broadcasting.

For the reasons discussed in the preamble, the Federal Communications Commission proposes to amend 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Kentucky, is amended by removing Channel 292A and by adding Channel 297A at Hodgenville, removing Channel 294A and by adding Channel 293A at Horse Cave, removing Lebanon, Channel 265A, removing Channel 297A and adding Channel 257A at Lebanon Junction, adding New Haven, Channel 274A, and removing Channel 274A and adding Channel 265A at Springfield.

3. Section 73.202(b), the Table of FM Allotments under Tennessee, is amended by removing Channel 294A and adding Channel 246C2 at Belle Meade, removing Channel 246C2 and adding Channel 221A at Goodlettsville, removing Channel 221A and adding Channel 259C0 at Hendersonville, removing Manchester, Channel 259C, and by adding Millersville, Channel 294C3.

Federal Communications Commission.
John A. Karousos,
Assistant Chief, Audio Division, Media Bureau.

[FR Doc. E6-6679 Filed 5-2-06; 8:45 am]

BILLING CODE 6712-01-P